DEPARTMENT OF ENERGY

Federal Energy Regulatory Commission

[Docket No. ER02-1264-003, et al.]

Mirant Neenah, Inc., et al.; Electric Rate and Corporate Regulation Filings

August 29, 2002.

The following filings have been made with the Commission. The filings are listed in ascending order within each docket classification.

1. Mirant Neenah, LLC

[Docket No. ER02-1264-003]

Take notice that on August 20, 2002, Mirant Neenah, LLC (Mirant Neenah), tendered for filing a notification of change in status with respect to its authority to engage in wholesale sales of capacity, energy, and ancillary services at market-based rates.

Comment Date: September 10, 2002.

2. Atlantic City Electric Company

[Docket No. ER02-2484-000]

Take notice that on August 21, 2002, Atlantic City Electric Company (Atlantic) tendered for filing with the Federal Energy Regulatory Commission (Commission) a Service Agreement dated August 1, 2002 between NUI Energy Brokers, Inc. and Atlantic under Atlantic's Wholesale Market Based Rate Tariff; and an executed copy of Edison Electric Institute's Master Power Purchase and Sale Agreement dated August 1, 2002 between NUI Energy Brokers, Inc. and Atlantic.

Comment Date: September 11, 2002.

3. Central Maine Power Company

[Docket No. ER02-2497-000]

Take notice that on August 27, 2002, Central Maine Power Company (CMP) tendered for filing revisions to the Continuing Site/Interconnection Agreement (CSIA) by and between CMP and FPL Energy Maine, Inc., designated as FERC Electric Tariff, Fifth Revised, Volume No. 3, Original Service Agreement No. 158, First Revised. The CSIA revisions are necessitated by the execution of a Second Amendment to the CSIA, dated July 24, 2002.

Comment Date: September 17, 2002.

4. South Carolina Electric & Gas Company

[Docket No. ER02-2498-000]

Take notice that on August 26, 2002, South Carolina Electric & Gas Company (SCE&G) submitted a firm point-to-point transmission service agreement and a non-firm transmission service agreement (the Agreements) establishing TXU Energy Trading Company, LP (TXU) a customer under the terms of SCE&G's Open Access Transmission Tariff.

SCE&G requests an effective date of August 1, 2002 for the Agreements. Accordingly, SCE&G requests waiver of the Commission's notice requirements. Copies of this filing were served on TXU and the South Carolina Public Service Commission.

Comment Date: September 16, 2002.

5. PacifiCorp

[Docket No. ER02-2499-000]

Take notice that on August 26, 2002, PacifiCorp tendered for filing with the Federal Energy Regulatory Commission (Commission) in accordance with Part 35 of the Commission's Rules and Regulations (18 CFR Part 35), a Mutual Netting/Settlement Agreement with Eagle Mountain City.

Copies of this filing were supplied to the Washington Utilities and Transportation Commission, the Utah Public Service Commission and the Public Utility Commission of Oregon.

Comment Date: September 16, 2002.

6. Allegheny Energy Service Corporation; On behalf of Monongahela Power Company,) The Potomac Edison Company, and West Penn Power Company (dba Allegheny Power')

[Docket No. ER02-2500-000]

Take notice that on August 27, 2002, Allegheny Energy Service Corporation, on behalf of Monongahela Power Company, The Potomac Edison Company, and West Penn Power Company, dba Allegheny Power, filed a revised Schedule D to the Power Supply Agreement among them to reflect membership in PJM West. An effective date of April 1, 2002, is requested.

Copies of the filing have been provided to the Public Utilities Commission of Ohio, the Pennsylvania Public Utility Commission, the Maryland Public Service Commission, the Virginia State Corporation Commission, and the West Virginia Public Service Commission.

Comment Date: September 17, 2002.

7. American Electric Power Service Corporation

[Docket No. ER02-2501-000]

Take notice that on August 27, 2002, American Electric Power Service Corporation (AEPSC) tendered for filing with the Federal Energy Regulatory Commission (Commission) an executed Interconnection and Operation Agreement between Ohio Power Company and Lawrence Energy Center, LLC. The agreement is pursuant to the AEP Companies' Open Access Transmission Service Tariff (OATT) that has been designated as the Operating Companies of the American Electric Power System FERC Electric Tariff Second Revised Volume No. 6, effective June 15, 2000. AEP requests an effective date of October 25, 2002.

A copy of the filing was served upon Lawrence Energy Center, LLC and the Public Utilities Commission of Ohio.

Comment Date: September 17, 2002.

8. CNG Power Services Corporation

[Docket No. ER02-2502-000]

Take notice that on August 27, 2002, CNG Power Services Corporation tendered for filing a Notice of Cancellation of its Rate Schedule, Designated as Rate Schedule FERC No. 1. CNG Power Services Corporation requests cancellation effective October 28, 2002, which is sixty days after the date of this filing.

Comment Date: September 17, 2002.

9. Dominion Retail, Inc.

[Docket No. ER02-2503-000]

Take notice that on August 27, 2002, Dominion Retail, Inc. tendered for filing a Notice of Cancellation of its Rate Schedule, Designated as Rate Schedule FERC No. 1. Dominion Retail, Inc. request cancellation effective October 28, 2002, which is sixty days after the date of this filing.

Comment Date: September 17, 2002.

10. Central Maine Power Company

[Docket No. ER02-2504-000]

Take notice that on August 27, 2002, Central Maine Power Company (CMP) tendered for filing an executed Local Network Operating Agreements (LNOA) and executed service agreements for Local Network Transmission Service (LNSA) entered into with Topsham Hydro Partners Limited Partnership (Topsham Hydro). These agreements supersede agreements previously filed on March 4, 2002. Service will be provided pursuant to CMP's Open Access Transmission Tariff, designated rate schedule CMP—FERC Electric Tariff, Fifth Revised Volume No. 3, under the following Service Agreement Numbers:

Topsham Hydro LNSA—First Revised Service Agreement No. 151

Topsham Hydro LNOA—First Revised Service Agreement No. 152

Comment Date: September 17, 2002.

11. Central Maine Power Company

[Docket No. ER02-2505-000]

Take notice that on August 27, 2002, Central Maine Power Company (CMP) tendered for filing a service agreement for Non-Firm Local Point-to-Point Transmission Service by and between CMP and FPL Energy Maine, Inc., designated as FERC Electric Tariff, Fifth Revised, Volume No. 3, Original Service Agreement No. 159.

Comment Date: September 17, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-22669 Filed 9-5-02; 8:45 am]

BILLING CODE 6717-01-P